DEPARTMENT OF THE TREASURY

Submission for OMB Review; Comment Request

September 7, 2000.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before October 16, 2000, to be assured of consideration.

Internal Revenue Service (IRS)

OMB Number: 1545-0155.

Form Number: IRS Form 3468.

Type of Review: Revision.

Title: Investment Credit.

Description: Taxpayers are allowed a credit against their income tax for certain expenses they incur for their trades or businesses. Form 3468 is used to compute this investment tax credit. The information collected is used by the IRS to verify that the credit has been correctly computed.

Respondents: Business or other for-profit, individuals or households, not-for-profit institutions, Farms.

Estimated Number of Respondents/Recordkeepers: 22,575.

Estimated Burden Hours Per Respondent/Recordkeeper:

Recordkeeping—12 hr., 55 min.

Learning about the law or the form—3 hr., 35 min.

Preparing and sending the form to the IRS—3 hr., 57 min.

Frequency of Response: Annually.

Estimated Total Reporting/Recordkeeping Burden: 461,392 hours.

OMB Number: 1545-1282.

Form Number: IRS Form 8830.

Type of Review: Revision.

Title: Enhanced Oil Recovery Credit.

Description: The enhanced oil recovery credit is 15% of qualified costs paid or incurred during the year. The purpose is to get more oil from the wells. The IRS uses the information on the form to ensure that the credit is correctly computed.

Respondents: Business or other for-profit, individuals or households.

Estimated Number of Respondents/Recordkeepers: 3,623.

Estimated Burden Hours Per Respondent/Recordkeeper:

Recordkeeping—6 hr., 42 min.

Learning about the law or the form—1 hr., 5 min.

Preparing and sending the form to the IRS—1 hr., 15 min.

Frequency of Response: Annually.

Estimated Total Reporting/Recordkeeping Burden: 32,752 hours.

Clearance Officer: Garrick Shear, Internal Revenue Service, Room 5244, 1111 Constitution Avenue, NW, Washington, DC 20224

OMB Reviewer: Alexander T. Hunt (202) 395-7860, Office of Management and Budget, Room 10202, New Executive Office Building, Washington, DC 20503

Lois K. Holland,
Departmental Reports Management Officer.

[FR Doc. 00-23560 Filed 9-13-00; 8:45 am]

BILLING CODE 4830-01-U